DEPARTMENT OF AGRICULTURE

Rural Utilities Service

[Docket #: RUS-24-AGENCY-0015]

Notice of Publication of RUS List of Eligible Countries

AGENCY: Rural Utilities Service, USDA.

ACTION: Notice.

SUMMARY: The Rural Utilities Service (RUS), a Rural Development Agency of the United States Department of Agriculture is issuing this notice to revise the list of eligible countries for purchases made by RUS Telecommunications and Electric Program awardees by adding Japan to the list of RUS Eligible Countries published on May 23, 2024, and to reflect the November 2023 RUS Eligible Countries published by the Office of the United States Trade Representative (USTR) as detailed in the Supplementary Information Section of this notice.

FOR FURTHER INFORMATION CONTACT:

For Electric Program matters: Donald Junta, Deputy Assistant Administrator, Office of Customer Service and Technical Assistance, RUS, U.S. Department of Agriculture, STOP 1569, 1400 Independence Ave. SW, Washington, DC 20250-1569. Telephone number (202) 720-1900, Email: ElectricProgramCustomerService@rd.usda.gov.

For Telecommunications Program matters: La'Kenya Walter, Deputy Assistant Administrator, Policy and Outreach Division, RUS, U.S. Department of Agriculture, STOP 1590, 1400 Independence Ave. SW, Washington, DC 20250-1590. Telephone number (202) 720-0733, Email: TelecomPODEB@usda.gov.

SUPPLEMENTARY INFORMATION:

Background: RUS published a notice in the Federal Register on February 18, 1997, at 62 FR 7205 that the Uruguay Round Agreements Act, (108 Stat. 4954, Pub. L. 103-465, December 8, 1994), amended the “Buy American” provision, (7 U.S.C. 903 note) of the Rural Electrification Act of 1936, as amended (7 U.S.C. 901 et seq.) (the “RE Act”). Under the amendment, the USTR is authorized to determine which countries are eligible to have their products receive the same treatment as manufactured and unmanufactured products produced in the United States. RUS publishes a new notice in the Federal Register to reflect any updates by the USTR. The last notice to update the list was published May 23, 2024, at 89 FR 45629.

Eligible Countries: Based on the updates to the list of eligible countries found at the following USTR Link: ustr.gov/sites/default/files/assets/procurement/Rural%20Utilities%20Service_Electric%20and%20Telecom_11.23%20Final.pdf, the following are the eligible countries for the RUS Telecommunications and Electric Program awardees:

For Telecommunications Program awardees, eligible countries are: Armenia, Aruba, Australia, Austria, Belgium, Bulgaria, Canada, Chinese Taipei, Cyprus, Czech Republic, Denmark, Estonia, Finland, France, Germany, Greece, Hong Kong, Hungary, Iceland, Ireland, Israel, Italy, Japan, Latvia, Liechtenstein, Lithuania, Luxembourg, Malta, Mexico, Moldova, Montenegro, Netherlands, New Zealand, Norway, North Macedonia, Poland, Portugal, Romania, Singapore, Slovak Republic, Slovenia, South Korea, Spain, Sweden, Switzerland, Ukraine, and United Kingdom.

For Electric Program awardees, eligible countries are: Armenia, Aruba, Australia, Austria, Bahrain, Belgium, Bulgaria, Canada, Chile, Chinese Taipei, Columbia, Costa Rica, Cyprus, Czech Republic, Denmark, Dominican Republic, El Salvador, Estonia, Finland, France, Germany, Greece, Guatemala, Honduras, Hong Kong, Hungary, Iceland, Ireland, Israel, Italy, Japan, Latvia, Liechtenstein, Lithuania, Luxembourg, Malta, Mexico, Moldova, Montenegro, Morocco, Netherlands, New Zealand, Nicaragua, North Macedonia, Norway, Oman, Panama, Peru, Poland, Portugal, Romania, Singapore, Slovak Republic, Slovenia, South Korea, Spain, Sweden, Switzerland, Ukraine, and United Kingdom.

For Electric and Telecommunications Program awardees: Eligibility of contracts with certain countries may be limited by contract amount or other restrictions. Awardees should reach out to the appropriate program individual as shown in the For Further Information Section of this notice for additional information.

The USTR may at any time declare one or more additional countries to be “eligible countries” for either Electric or Telecommunications Program awardees. Each RUS awardee is responsible for assuring that its procurement complies with the requirements of the RE Act “Buy American” provision.

Christopher A. McLean,
Acting Administrator, Rural Utilities Service, USDA, Rural Development.

[FR Doc. 2025-05063 Filed 3-25-25; 8:45 am]

BILLING CODE 3410-15-P